DEPARTMENT OF TRANSPORTATION

[Docket No. DOT-OST-2022-0120]

Agency Information Collection Activities: DOT Technical Assistance PRA

AGENCY: Office of the Secretary (OST), Department of Transportation (DOT).

ACTION: Notice of request for comments.

SUMMARY: In accordance with the Paperwork Reduction Act of 1995, this notice announces that the Information Collection Requirements (ICR) abstracted below have been forwarded to the Office of Management and Budget (OMB) for review and comment. The ICR describe the nature of the information collection and their expected burdens.

DATES: Comments must be submitted on or before March 27, 2023.

ADDRESSES: You may send comments within 30 days of publication of this notice to the Office of Information and Regulatory Affairs, Office of Management and Budget, 725 17th Street NW, Washington, DC 20503, Attention DOT Desk Officer. All comments received are part of the public record. Comments will generally be posted without change. All comments should include the Docket number DOT-OST-2022-0120.

FOR FURTHER INFORMATION CONTACT: Please email ThrivingCommunities@dot.gov or contact Victor Austin at 202-366-2996. Office hours are from 8 a.m. to 5 p.m. EDT, Monday through Friday, except for Federal holidays.

SUPPLEMENTARY INFORMATION: The Paperwork Reduction Act of 1995 (PRA), Public Law 104-13, Section 2, 109 Stat. 163 (1995) (codified as revised at 44 U.S.C. 3501-3520), and its implementing regulations, 5 CFR part 1320, require Federal agencies to issue two notices seeking public comment on information collection activities before OMB may approve paperwork packages. 44 U.S.C. 3506, 3507; 5 CFR 1320.5, 1320.8(d)(1), 1320.12. On November 22, 2022, OST published a 60-day notice (87 FR 71408) in the Federal Register soliciting comments on the ICR that the agency was seeking OMB approval. OST received no comments after issuing this 60-day notice. Accordingly, DOT announces that these information collection activities have been re-evaluated and certified under 5 CFR 1320.5(a) and forwarded to OMB for review and approval pursuant to 5 CFR 1320.12(c). Before OMB decides whether to approve these proposed collections of information, it must provide 30 days for public comment. 44 U.S.C. 3507(b); 5 CFR 1320.12(d). Federal law requires OMB to approve or disapprove paperwork packages between 30 and 60 days after the 30-day notice is published. 44 U.S.C. 3507 (b)-(c); 5 CFR 1320.12(d); see also 60 FR 44978, 44983, Aug. 29, 1995. OMB believes that the 30-day notice informs the regulated community to file relevant comments and affords the agency adequate time to digest public comments before it renders a decision. 60 FR 44983, Aug. 29, 1995. Therefore, respondents should submit their respective comments to OMB within 30 days of publication to best ensure having their full effect. 5 CFR 1320.12(c); see also 60 FR 44983, Aug. 29, 1995.

The summaries below describe the nature of the information collection requirements (ICRs) and the expected burden. The requirements are being submitted for clearance by OMB as required by the PRA.

Title: DOT Technical Assistance PRA.

OMB Control Number: 2105-0584.

Background: Bipartisan Infrastructure Law (BIL) enacted as the Infrastructure Investment and Jobs Act (IIJA) (H.R. 3684, Public Law 117-58, also known as the Bipartisan Infrastructure Law or BIL) created several new programs at the US Department of Transportation (DOT) that allow local governments, non-profit organizations, tribal governments, and other political subdivisions of state or local governments to apply directly for DOT discretionary grant funding. In response to President Biden's Executive Order 13985, Advancing Racial Equity and Support for Underserved Communities Through the Federal Government and Executive Oder 14008, Tackling the Climate Crisis at Home and Abroad, DOT has included criteria in its notices of funding opportunity to prioritize the needs of disadvantaged communities for many of these new programs.

The Thriving Communities Initiative will include programs by which DOT will utilize cooperative agreements and procurements with technical assistance and capacity building providers to support communities seeking to advance transformative, equitable, and climate-friendly infrastructure projects that benefit disadvantaged communities. Further, the Thriving Communities Initiative will solicit applications for grants and in-kind technical assistance that will assist communities in analysis and delivery of projects. Specifically, these include the Thriving Communities program, the Rural and Tribal Infrastructure Assistance Pilot Program (see § 21205 of Pub. L. 117-58), and Asset Concession and Innovative Finance Assistance Program (see 23 U.S.C. 611 as amended by § 71001 of Pub. L. 117-58).

DOT will utilize a Letter of Interest (LOI) or use a simplified in-take form from communities interested in receiving technical assistance and capacity building through these programs. Technical assistance and capacity building is offered by the Government at no charge and with no required non-federal share.

Establishment of the program has two distinct tasks: (a) contracting of technical assistance advisors through a Notice of Funding Opportunity (NOFO) or existing procurement vehicles; and (b) recruitment of project sponsors who will receive technical assistance services. Responding to both will occur on a voluntary basis, utilizing an electronic platform.

For item A, eligible applicants to provide technical assistance through the Thriving Communities Program will request cooperative agreement funding through an application process in response to a published NOFO. The application for Fiscal Year 2022 was a one-time information collection. DOT estimated approximately 20 hours was required to complete the NOFO application process used to select capacity builders under the Thriving Communities program. DOT estimates the recipients of Thriving Communities program funding will spend another 4 hours, annually, submitting post-award reports. In addition, reporting requirements will be submitted by the select capacity building providers and technical assistance recipients during the implementation, and evaluation phases.

For item B, the intake form to be used by communities seeking technical assistance is estimated to take no more than 1 hour to complete. Recipients of technical assistance support are estimated to spend no more than 1 hour annually providing feedback and evaluation of the quality of services received through the program.

For the Asset Concession and Innovative Finance Assistance Program, project sponsors will make an application in response to a Notice of Funding Opportunity. Successful applicants will receive reimbursable grants to procure technical assistance to develop projects. Preparation of a NOFO response is estimated to require 25 hours of staff time. Successful applicants must also prepare progress reports as a condition of funding. Progress reporting is estimated to require 4 hours per year.

For the Rural and Tribal Assistance Program, project sponsors will make an application in response to a Notice of Funding Opportunity. The application process is streamlined for this program and is estimated to require 15 hours to complete. Award recipients must also prepare progress reports as a condition of funding. Progress reporting is estimated to require 4 hours per year.

Respondents to Item A (technical assistance providers): for-profit companies, non-profit organizations, or other technical assistance providers.

Respondents to Item B (requestors of grants or technical assistance): philanthropic entities, non-profit organizations, other Federal agencies, state or local governments and their agencies, and Indian Tribes.

Frequency: Once a year.

Thriving Communities Program

Number of respondents to NOFO: 46.

Estimated Burden Hours per NOFO respondents: 24.

Estimated Total Annual Burden Hours for NOFO respondents: 1,104.

Number of requestors of technical assistance: 373.

Estimated Annual Burden Hours for requestors of technical assistance: 373.

Estimated Annual Burden Hours for respondents to technical assistance: 45.

Estimated Total Annual Cost: $179,596.

Asset Concession and Innovative Finance Grant Program

Estimated Number of respondents to NOFO: 50.

Estimated Burden Hours per NOFO respondents: 25.

Estimated Total Annual Burden Hours for NOFO respondents: 1,250.

Estimated Award Winners: 30.

Estimated Hours for Progress Reporting, per Award: 4.

Estimated Annual Burden Hours for Progress Reporting: 120.

Estimated Total Annual Cost: $161,660.

Rural and Tribal Assistance Grants

Estimated Number of Respondents to NOFO: 12.

Estimated Burden Hours per NOFO Respondents: 15.

Estimated Total Annual Burden Hours for NOFO respondents: 180.

Estimated Award Winners: 12.

Estimated Hours for Progress Reporting, per Award: 4.

Estimated Annual Burden Hours for Progress Reporting: 48.

Estimated Total Annual Cost: $26,904.

Total for All Thriving Communities Initiative Programs

Estimated Total Hours: 3,120.

Estimated Total Cost: $368,160.

Public Comments Invited: You are asked to comment on any aspect of this information collection, including: (1) Whether the proposed collection is necessary for the DOT's performance; (2) the accuracy of the estimated burdens; (3) ways for the DOT to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; 23 U.S.C. 134 and 135; and 23 CFR chapter 1, subchapter E, part 450.

Dated: February 16, 2023.
Mariia Zimmerman,
Strategic Advisor for Technical Assistance and Community Solutions, Office of the Secretary, U.S. Department of Transportation.

[FR Doc. 2023-03691 Filed 2-22-23; 8:45 am]

BILLING CODE 4910-9P-P